DEPARTMENT OF HEALTH AND HUMAN SERVICES

Centers for Disease Control and Prevention

Partnerships To Advance the National Occupational Research Agenda (NORA)

AGENCY: The National Institute for Occupational Safety and Health (NIOSH) of the Centers for Disease Control and Prevention (CDC), Department of Health and Human Services (HHS).

ACTION: Notice of public meeting.

SUMMARY: The National Institute for Occupational Safety and Health (NIOSH) of the Centers for Disease Control and Prevention (CDC) announces the following public meeting, which will be held as a webinar: “Partnerships to Advance the National Occupational Research Agenda (NORA)”.

Public Meeting Time and Date: 1 p.m.-2:30 p.m. EDT, April 22, 2014.

Place: Online and teleconference only, see details below.

Purpose of the Meeting: The National Occupational Research Agenda (NORA) has been structured to engage partners with each other and/or with NIOSH to advance NORA priorities. The NORA Liaison Committee continues to be an opportunity for representatives from organizations with national scope to learn about NORA progress and to suggest possible partnerships based on their organization's mission and contacts. This opportunity is now structured as a public meeting via the Internet to attract participation by a larger number of organizations and to further enhance the success of NORA. Some of the types of organizations of national scope that are especially encouraged to participate are employers, unions, trade associations, labor associations, professional associations, and foundations. Others are welcome.

This meeting will include:

• Updates from NIOSH leadership on NORA and on plans for evaluating the second decade of NORA;

• A discussion of a variety of metrics NIOSH is considering for measuring its performance as a research agency;

• Brief written updates from most of the NORA Sector Councils on their progress, priorities, and implementation plans to date, likely including the NORA Agriculture, Forestry and Fishing; Construction; Healthcare and Social Assistance; Manufacturing; Mining; Oil and Gas Extraction; Public Safety; Services; Transportation, Warehousing and Utilities; and Wholesale and Retail Trade Sector Councils; and

• Time to ask questions and discuss partnership opportunities.

Status: The meeting is open to the public, limited only by the capacities of the conference call and online system for sharing slides. Everyone can participate through the Internet (to see the slides) and a teleconference call (capacity 50). Each participant is requested to register for the free meeting by sending an email to noracoordinator@cdc.gov containing the participant's name, organization name, and contact telephone number on the day of the meeting. Requirements include: computer, Internet connection, and telephone, preferably with `mute' capability. An email confirming registration will include the details needed to participate in the Web meeting.

Background: NORA is a partnership program to stimulate innovative research in occupational safety and health leading to improved workplace practices. Unveiled in 1996, NORA has become a research framework for the nation. Diverse parties collaborate to identify the most critical issues in workplace safety and health. Partners then work together to develop goals and objectives for addressing those needs and to move the research results into practice. The NIOSH role is facilitator of the process. For more information about NORA, see http://www.cdc.gov/niosh/nora/about.html.

Since 2006, NORA has been structured according to industrial sectors. Ten major sector groups have been defined using the North American Industrial Classification System (NAICS). After receiving public input through the Web and town hall meetings, ten NORA Sector Councils defined sector-specific strategic plans for conducting research and moving the results into widespread practice. To view the National Sector Agendas, see http://www.cdc.gov/niosh/nora/.

FOR FURTHER INFORMATION CONTACT: Sidney C. Soderholm, Ph.D., NORA Coordinator, Email noracoordinator@cdc.gov, telephone (202) 245-0665.

Dated: March 20, 2014.
John Howard,
Director, National Institute for Occupational Safety and Health, Centers for Disease Control and Prevention.

[FR Doc. 2014-06629 Filed 3-25-14; 8:45 am]

BILLING CODE 4163-19-P